DEPARTMENT OF JUSTICE

Antitrust Division

Notice Pursuant to the National Cooperative Research and Production Act of 1993—The Open Mobile Alliance

Notice is hereby given that, on July 7, 2003, pursuant to Section 6(a) of the National Cooperative Research and Production Act of 1993, 15 U.S.C. 4301 et seq. (“the Act”), The Open Mobile Alliance (“OMA”) has filed written notifications simultaneously with the Attorney General and the Federal Trade Commission disclosing changes in its membership status. The notifications were filed for the purpose of extending the Act's provisions limiting the recovery of antitrust plaintiffs to actual damages under specified circumstances. Specifically, Anritsu Ltd., Luton, United Kingdom; ArcSoft Inc., Fremont, CA; Bitfone Corporation, Laguna Niguel, CA; Chaoticom, Inc., Hampton Falls, NH; Computer Associates, Islandia, NY; E28 (Shanghai) Ltd., Shanghai, People's Republic of China; esmertec AG, Duebendorf, Switzerland; Future Space S.A., Madrid, Spain; Green Cathedral plc, Cambridge, United Kingdom; iaSolution Inc., Taipei, Taiwan; In-Fusio, Bordeaux, France; Incomit AB, Karlstad, Sweden; Insignia Solutions, Fremont, CA; Intrado, Longmont, CO; Maptel Networks, S.A.U., Madrid, Spain; MediaTek Inc., Hsin-Chu City, Taiwan; mformation Technologies Inc., Edison, NJ; Mobile-Mind, Inc., Watertown, MA; Mobixell Networks Ltd., Ra′anana, Israel; Nextreaming Corporation, Seoul, Republic of Korea; NTT DATA Corporation, Tokyo, Japan; Oksijen Teknoloji, Bakirkoy-Istanbul, Turkey; PacketVideo Corp, San Diego, CA; ParthusCeva, Inc., San Jose, CA; Partner Communications Company Ltd., Rosh Ha′ayin, Israel; Plastixense AB, Malmo, Sweden; Promotion Office for Wireless Communication Department of Industrial Technology, Taipei, Taiwan; Ruksun Software Technologies Pvt. Ltd., Pune, India; SafeNet, Inc., Baltimore, MD; Sarnoff Corporation, Princeton, NJ; SDR Forum, New Hartford, NY; Smart Fusion SAS, Mougins Cedex, France; Synergenix Interactive AB, Solna, Sweden; VerdiSoft Corporation, Palo Alto, CA; Vilkas Ltd., Lugano, Switzerland; Virgin Mobile, Trowbridge, United Kingdom; VoiceAge Corporation, Montreal, Quebec, Canada; and WiderThan.com, Seoul, Republic of Korea have been added as parties to this venture. Teleca Software Solutions is now called Teleca Mobile Technologies, Lund, Sweden; and Viair, Inc. is now called Visto Corporation, Seattle, WA.

The following companies had their memberships canceled: Digital Bridges, LTD, Dunfermline, United Kingdom; and Mobilesys Inc., Mountain View, CA.

The following company has resigned: Ad Vitam, Pont-Du-Chateau, France.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to section 6(b) of the Act on December 31, 1998 (63 FR 72333).

The last notification was filed with the Department on April 7, 2003. A notice was published in the Federal Register pursuant to section 6(b) of the Act on May 16, 2003 (68 FR 26648).

Dorothy B. Fountain,
Deputy Director of Operations, Antitrust Division.

[FR Doc. 03-24309 Filed 9-25-03; 8:45 am]

BILLING CODE 4410-11-M